DEPARTMENT OF HOMELAND SECURITY

Federal Emergency Management Agency

[Docket ID FEMA-2010-0050]

Recovery Policy, RP 9525.7, Labor Costs—Emergency Work

AGENCY: Federal Emergency Management Agency, DHS.

ACTION: Notice of availability.

SUMMARY: This document provides notice of the availability of the final policy, Recovery Policy 9525.7, Labor Costs—Emergency Work. The Federal Emergency Management Agency (FEMA) published a notice of availability and request for comment for the proposed policy on August 13, 2010 at 75 FR 49508.

DATES: This policy is effective November 19, 2015.

ADDRESSES: This final policy is available online at http://www.regulations.gov and on FEMA's Web site at http://www.fema.gov. The proposed and final policy, all related Federal Register Notices, and all public comments received during the comment period are available at http://www.regulations.gov under docket ID FEMA-2010-0050. A hard copy of the final policy may be viewed at the Office of the Chief Counsel, Federal Emergency Management Agency, Room 8NE, 500 C Street SW., Washington, DC 20472-3100.

FOR FURTHER INFORMATION CONTACT: William Roche, Federal Emergency Management Agency, 500 C Street SW., Washington, DC 20472-3100, 202-646-3834.

SUPPLEMENTARY INFORMATION: This policy provides guidance on eligible labor costs for an applicant's permanent, temporary, and contract employees who perform emergency work (Category A and Category B). Changes to this final policy from the previous version are as follows: Additional authority cited in section V; the addition of a definitions section (section VII) to define terms used in the policy; revisions to the policy section (section VIII) that establish requirements for reimbursement based on predisaster labor policies; a clarification citing the authority for mutual aid agreements to which the Recipient/Subrecipient must comply; provides flexibility for reimbursement of costs for personnel that preposition assets prior to an event to support the performance of eligible emergency work; deletes “standby time” as an ineligible cost; and addresses the issue of 24-hour work shifts for firefighters and other personnel performing emergency work when supported and determined reasonable. FEMA received one comment on the proposed policy.

Authority: 42 U.S.C. 5121-5207 and implementing regulations of 44 CFR part 206.

Dated: December 8, 2015.
Joshua Dozor,
Acting Deputy Associate Administrator, Office of Policy and Program Analysis, Federal Emergency Management Agency.

[FR Doc. 2015-31381 Filed 12-11-15; 8:45 am]

BILLING CODE 9111-23-P